DEPARTMENT OF ENERGY

Notice of Extension of Public Comment Period for the Revised Draft Environmental Impact Statement for Decommissioning and/or Long-Term Stewardship at the West Valley Demonstration Project and Western New York Nuclear Service Center, DOE/EIS-0226D (Revised)

AGENCY: Department of Energy.

ACTION: Notice of extension of public comment period.

SUMMARY: This notice announces an extension of the public comment period initially published in the December 5, 2008 Notice of Availability (73 FR 74160) for the Revised Draft Environmental Impact Statement for Decommissioning and/or Long-Term Stewardship at the West Valley Demonstration Project and Western New York Nuclear Service Center [DOE/EIS-0226-D (Revised)] (referred to as the “Draft Decommissioning and/or Long-Term Stewardship EIS” or “Draft EIS.”). The comment period will now close on September 8, 2009.

DATES: The comment period will be extended from June 8, 2009 to September 8, 2009.

ADDRESSES: Copies of this Draft EIS are available for review at the Concord Public Library, 18 Chapel Street, Springville, New York 14141, (716) 592-7742, the Ashford Office Complex Reading Room, 9030 Route 219, West Valley, New York 14171, (716) 942-4555 and the U.S. Department of Energy, FOIA Reading Room, 1E-190, Forrestal Bldg., 1000 Independence Ave., SW., Washington, DC 20585, 202-586-3142.

This Draft EIS is also available at http://www.westvalleyeis.com.

Written comments may be mailed to Catherine Bohan, EIS Document Manager, West Valley Demonstration Project, U.S. Department of Energy, P.O. Box 2368, Germantown, MD 20874. Comments or requests for information may also be submitted via e-mail at http://www.westvalleyeis.com or by faxing toll-free to 866-306-9094. Please mark all envelopes, faxes and e-mail: “Draft Decommissioning and/or Long-Term Stewardship EIS Comments.” All comments received during the comment period, as extended, will be considered during preparation of the Final EIS.

FOR FURTHER INFORMATION CONTACT: For information regarding the WVDP or this Draft EIS, contact Catherine Bohan at the above address. The following Web sites may also be accessed for additional information on the Draft EIS or the West Valley Site: http://www.westvalleyeis.com or http://www.wv.doe.gov.

Issued in Washington, DC, on June 5, 2009.
Michael C. Moore,
Director, Office of Small Sites.

[FR Doc. E9-13837 Filed 6-11-09; 8:45 am]

BILLING CODE 6450-01-P